DEPARTMENT OF COMMERCE

National Oceanic and Atmospheric Administration

[I.D. 011402D]

North Pacific Research Executive Board

AGENCY: National Marine Fisheries Service (NMFS), National Oceanic and Atmospheric Administration (NOAA), Commerce.

ACTION: Notice of Executive Board Meeting, closed to the public.

SUMMARY: The North Pacific Research Board was created by Congress for the purpose of carrying out marine research activities in the waters off Alaska. The Executive Board will meet in closed session to discuss personnel and administrative issues.

Council address: North Pacific Fishery Management Council, 605 W. 4th Ave., Suite 306, Anchorage, AK 99501-2252.

DATES: The meeting will be held on February 4, 2002.

ADDRESSES: The meeting will be held at 441 W. 5th Avenue, Suite 500, Anchorage, AK.

FOR FURTHER INFORMATION CONTACT: Clarence Pautzke: 907-271-2809.

SUPPLEMENTARY INFORMATION: Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Clarence Pautzke at 907-271-2809 at least 7 working days prior to the meeting date.

Dated: January 15, 2002.
Richard W. Surdi,
Acting Director, Office of Sustainable Fisheries, National Marine Fisheries Service.

[FR Doc. 02-1400 Filed 1-17-02; 8:45 am]

BILLING CODE 3510-22-S